DEPARTMENT OF COMMERCE

National Oceanic and Atmospheric Administration

RIN 0648-XM25

Marine Mammals

AGENCY: National Marine Fisheries Service (NMFS), National Oceanic and Atmospheric Administration (NOAA), Commerce.

ACTION: Notice of Availability.

SUMMARY: NMFS has developed a policy and guidance document for implementation of the Steller sea lion (Eumetopias jubatus) and northern fur seal (Callorhinus ursinus) research permits and grants programs. This document establishes policy for implementation of the preferred alternative and recommendations in Chapter 5 of the 2007 Final Programmatic Environmental Impact Statement (EIS) for Steller Sea Lion and Northern Fur Seal Research.

DATES: Written, telefaxed, or e-mail comments must be received on or before January 20, 2009.

ADDRESSES: The document is available for review on the EIS project webpage at http://www.nmfs.noaa.gov/pr/permits/eis/steller.htm. To receive a hard copy, contact:

Permits, Conservation and Education Division, Office of Protected Resources, National Marine Fisheries Service, 1315 East-West Highway, Room 13705, Silver Spring, MD 20910-3226; phone (301)713-2289.

Written comments should be mailed to: P. Michael Payne, Chief, at the address above. Comments may also be submitted by facsimile at 301-427-2583 or email at ssleis.comments@noaa.gov. For email comments, use “SSL EIS policy document” in the subject line.

FOR FURTHER INFORMATION CONTACT: Tammy Adams or Kate Swails, (301)713-2289.

SUPPLEMENTARY INFORMATION: In 2007 NMFS completed the programmatic EIS and issued a Record of Decision (ROD) which identified the preferred alternative. NMFS limited implementation of the preferred alternative by limiting duration of research permits to span three summer field seasons, through July 2008. Full implementation of the preferred alternative is being phased in, upon completion of action items in the ROD and Chapter 5 of the EIS. The policy and guidance document is one item. Additional information about the EIS, ROD, and research permits issued in 2007 is available on the EIS project webpage (See ADDRESSES).

Dated: December 15, 2008.
P. Michael Payne,
Chief, Permits, Conservation and Education Division, Office of Protected Resources, National Marine Fisheries Service.

[FR Doc. E8-30239 Filed 12-18-08; 8:45 am]

BILLING CODE 3510-22-S